DEPARTMENT OF AGRICULTURE

Agricultural Marketing Service

[Doc. No. AMS-LP-24-0011]

Request for Extension and Revision of a Currently Approved Information Collection

AGENCY: Agricultural Marketing Service, USDA.

ACTION: Notice; request for comments.

SUMMARY: In accordance with the Paperwork Reduction Act of 1995, this notice announces the Agricultural Marketing Service's (AMS) intent to request approval from the Office of Management and Budget (OMB), for an extension of and revision to the currently approved information collection used in support of the voluntary grading and certification of meat, meat products, shell eggs, poultry products, rabbit products, and Audit Verification and Accreditation Programs (OMB 0581-0128).

DATES: Comments on this notice must be received by July 29, 2024 to be assured of consideration.

ADDRESSES: Interested persons are invited to submit comments concerning this notice online using the electronic process available at https://www.regulations.gov. Written comments may be submitted to: Quality Assessment Division; Livestock and Poultry Program; Agricultural Marketing Service, USDA; 1400 Independence Avenue SW, Stop 0258; Washington, DC 20250-0258. All comments should reference the docket number: AMS-LP-24-0011, the date of submission, and the page number of this issue of the Federal Register. All comments submitted in response to this notice will be posted without change, including any personal information provided, at https://www.regulations.gov/, and become a matter of public record.

FOR FURTHER INFORMATION CONTACT: Michelle Degenhart, Quality Assessment Division; Telephone (202) 322-9826, or Email michelle.degenhart@usda.gov.

SUPPLEMENTARY INFORMATION:

Title: Regulations for Voluntary Grading, Certification, and Standards—7 CFR 54, 56, 62, and 70.

OMB Number: 0581-0128.

Expiration Date of Approval: August 31, 2024.

Type of Request: Request for extension of and revision of a currently approved information collection.

Abstract: The Agricultural Marketing Act of 1946 (7 U.S.C. 1621-1627), hereinafter referred to as the “Act,” directs and authorizes the U.S. Department of Agriculture (USDA) to develop and improve standards of quality, grades, grading programs, and certification services which facilitate the marketing of agricultural products. To provide programs and services, section 203(h) of the Act (7 U.S.C. 1622(h)) directs and authorizes the Secretary of Agriculture to inspect, certify, and identify the class, quality, quantity, and condition of agricultural products under such rules and regulations as the Secretary may prescribe, including assessment and collection of fees for the cost of service. The regulations in 7 CFR parts 54, 56, and 70 provide a voluntary program for grading, certification and standards of meats, prepared meats, meat products, shell eggs, poultry products, and rabbit products. The regulation in 7 CFR part 62—AMS Audit Verification and Accreditation Programs (AVAAP) provides for a collection of voluntary, audit-based, user-fee funded programs that allow applicants to have program documentation and program processes assessed by AMS auditor(s) and other USDA officials.

AMS is committed to improving services through collaborative efforts with respondents. In this renewal, AMS is including estimates relating to key enhancements to ensure USDA grading is delivered with consistency, accuracy and improve data sharing. AMS also plans to combine forms LP-109 and LP-109A to eliminate duplicate information from respondents.

AMS also provides other types of voluntary services under these regulations, including contract and specification acceptance services and verification of product, processing, further processing, temperature, and quantity. Because this is a voluntary program, respondents request or apply for the specific service they wish, and in doing so, they provide information. The information collected is used only by authorized representatives of USDA (AMS, Livestock and Poultry Program's national and field staff, which includes state agencies) and is used to conduct services requested by respondents. Information collected includes but is not limited to: total received volume in pounds or cases, volume in pounds of graded, daily total of grades assigned (e.g., by carcass), grading camera images and associated data, processed and reprocessed products, case volume of graded product, applicant's name, billing and facility address, scheduled hours, and requests for approval of commodity specifications, camera approvals, and chemical compounds. AMS is the primary user of the information with some information collected to be returned to respective respondents.

The information collection requirements in this request are essential to carry out the intent of the Act, to provide the respondents the type of service they request, and to administer the program.

Estimate of Burden: Public reporting burden for this collection of information is estimated to average 0.147 hours per response.

Respondents: Livestock, meat, poultry, shell egg industries, or other agricultural enterprises; state or local governments; or other businesses or organizations.

Estimated Number of Respondents: 1,483.

Estimated Number of Responses per Respondent: 55.71.

Estimated Total Annual Responses: 82,615.

Estimated Total Annual Burden on Respondents: 12,167.95 hours.

Comments: Comments are invited on: (1) whether the proposed collection of information is necessary for the proper performance of the functions of AMS, including whether the information will have practical utility; (2) the accuracy of AMS' estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All responses will become a matter of public record, including any personal information provided.

Melissa Bailey,
Associate Administrator, Agricultural Marketing Service.

[FR Doc. 2024-11601 Filed 5-24-24; 8:45 am]

BILLING CODE P